DEPARTMENT OF JUSTICE

Notice of Lodging of Consent Decree Under the Comprehensive Environmental Response, Compensation and Liability Act (CERCLA)

Notice is hereby given that on October 15, 2007, a proposed Consent Decree in United States v. Exxon Mobil Corporation and Cargill Dry Corn Ingredients, Inc., Civil Action No. 5:07-cv-00400, was lodged with the United States District Court for the Eastern District of North Carolina, Western Division. The proposed Consent Decree resolves the United States' claims under sections 106 and 107 of the Comprehensive Environmental Response, Compensation, and Liability Act, 42 U.S.C. 9606 and 9607, relating to injunctive relief and response costs incurred at the Gurley Pesticides Burial Superfund Site in Selma, Johnston County, North Carolina. Under the proposed Consent Decree, Settling Defendants will perform all required work, reimburse $423,148.70 in past response costs, and pay all interim and future costs incurred at the Site.

The Department of Justice will receive comments relating to the proposed Consent Decree for a period of thirty (30) days from the date of this publication. Comments should be addressed to the Assistant Attorney General, Environment and Natural Resources Division, and either e-mailed to pubcomment-ees.enrd@usdoj.gov or mailed to the U.S. Department of Justice, P.O. Box 7611, Washington, DC 20044-7611. Comments should refer to United States v. Exxon Mobil Corporation and Cargill Dry Corn Ingredients, Inc., DJ Ref. 90-11-2-07506/1.

The proposed Consent Decree may be examined at the Office of the United States Attorney, Civil Division, 310 Bern Ave, Suite 800, Federal Building, Raleigh, North Carolina 27601, and at the U.S. EPA, 61 Forsyth Street, SW., Atlanta, GA 30303. During the public comment period, the Consent Decree also may be examined on the following Department of Justice Web site: http://www.usdoj.gov/enrd/Consent_Decrees.html. A copy of the proposed Consent Decree may be obtained by submitting a request by mail to the Consent Decree Library, U.S. Department of Justice, P.O. Box 7611, Washington, DC 20044-7611, or by faxing or e-mailing a request to Tonia Fleetwood (tonia.fleetwood@usdoj.gov), fax no. (202) 514-0097, phone confirmation no. (202) 514-1547. In requesting a copy of this document by mail, please enclose a check, payable to the “U.S. Treasury,” in the amount of $22.25 for the Consent Decree only or $67.75 for the Consent Decree and Appendices (25 cents per page reproduction cost). If making the request by e-mail or fax, please forward a check in the appropriate amount to the Consent Decree Library at the above stated address.

Henry S. Friedman,
Assistant Section Chief, Environmental Enforcement Section, Environment and Natural Resources Division.

[FR Doc. 07-5257 Filed 10-23-07; 8:45 am]

BILLING CODE 4410-15-M